DEPARTMENT OF AGRICULTURE

Food Safety and Inspection Service

[Docket No. FSIS-2025-0013]

Availability of Guideline for Applying for Food Safety and Inspection Service Inspection

AGENCY: Food Safety and Inspection Service (FSIS), U.S. Department of Agriculture (USDA).

ACTION: Notice of availability and request for comments.

SUMMARY: FSIS is announcing the availability of and requesting comments on a new guideline titled FSIS Guideline for Applying for USDA FSIS Inspection. FSIS developed this guideline to provide businesses interested in applying for FSIS inspection with information about determining the need for FSIS inspection, products exempt from routine inspection, the application process, FSIS verification activities, and resources to support new applicants.

DATES: Submit comments on or before November 14, 2025.

ADDRESSES: A downloadable version of the FSIS Guideline for Applying for USDA FSIS Inspection is available to view and print at https://www.fsis.usda.gov/policy/fsis-guidelines.

FSIS invites interested persons to submit comments on this document. Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2025-0013. Comments received in response to this docket will be made available for public inspection and posted without change, including any personal information, to https://www.regulations.gov.

Docket: For access to background documents or comments received, call (202) 720-5046 to schedule a time to visit the FSIS Docket Room at 1400 Independence Avenue SW, Washington, DC 20250-3700.

FOR FURTHER INFORMATION CONTACT: Rachel Edelstein, Assistant Administrator, Office of Policy and Program Development, at (202) 205-0495 or docketclerk@usda.gov with a subject line of “Docket No. FSIS 2025-0013.” Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

FSIS is responsible for ensuring that the nation's supply of meat, poultry, and egg products are safe, wholesome, and properly labeled. FSIS administers the Federal Meat Inspection Act (FMIA) (21 U.S.C. 601 et seq.), the Poultry Products Inspection Act (PPIA) (21 U.S.C. 451 et seq.), and the Egg Products Inspection Act (EPIA) (21 U.S.C. 1031 et seq.). Establishments producing products subject to these Acts must apply for and receive FSIS inspection services unless they qualify for an exemption.¹

¹ Exemptions can be found in 21 U.S.C. 623 for meat products, 21 U.S.C. 464 for poultry products, and 21 U.S.C. 1044 for egg products.

To assist prospective applicants, particularly those operating small and very small businesses, FSIS developed the guideline Applying for USDA FSIS Inspection. The guideline provides information on finding resources for small and very small establishments, determining whether FSIS inspection is required based on the type of the product and intended distribution, identifying products that are exempt from routine FSIS inspection, meeting the requirements for applying for FSIS inspection, accessing commonly used FSIS guidance documents related to food safety requirements, understanding FSIS verification activities in inspected establishments, and contacting FSIS for further assistance throughout the application process.

The guideline is designed to make the application process more transparent and accessible, thereby facilitating compliance with the FMIA, PPIA, EPIA and implementing regulations. It does not establish any new regulatory requirements. It simply explains existing statutory and regulatory requirements and provides information to assist applicants in understanding how to comply with those requirements.

FSIS invites comments on all aspects of the guidance, including its clarity, completeness, and usefulness for establishments seeking to apply for inspection services. After reviewing the comments received, FSIS may update the guideline as necessary.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service that provides automatic and customized access to selected food safety news and information. This service is available at: https://www.fsis.usda.gov/subscribe. The available information ranges from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Mail Stop 9410, Washington, DC 20250-9410; (2) fax: (202) 690-7442; or (3) email: program.intake@usda.gov.

USDA is an equal opportunity provider, employer, and lender.

Justin Ransom,
Administrator.

[FR Doc. 2025-17737 Filed 9-12-25; 8:45 am]

BILLING CODE 3410-DM-P